DEPARTMENT OF COMMERCE

National Oceanic and Atmospheric Administration

RIN 0648-XG233

Groundfish Operational Assessment Peer Review Public Meeting

AGENCY: National Marine Fisheries Service (NMFS), National Oceanic and Atmospheric Administration (NOAA), Commerce.

ACTION: Notice of public meeting.

SUMMARY: NMFS and the Operational Assessment Oversight Panel will convene the Groundfish Operational Assessment Peer Review Meeting for the purpose of reviewing stock assessments of haddock, cod, yellowtail flounder, windowpane flounder, American plaice, pollock, and white hake. The Operational Assessment Peer Review is a formal scientific peer-review process for evaluating and presenting stock assessment results to managers for fish stocks in the offshore U.S. waters of the northwest Atlantic. Assessments are prepared by Stock Assessment Workshop (SAW) working groups and reviewed by an independent panel of stock assessment experts called the Operational Assessment Oversight Panel (AOP). The public is invited to attend the presentations and discussions between the review panel and the scientists who have participated in the stock assessment process.

DATES: The public portion of the Groundfish Operational Assessment Peer Review Meeting will be held from September 9, 2019-September 13, 2019. The meeting will commence on September 13, 2019 at 5:00 p.m. Eastern Standard Time. Please see SUPPLEMENTARY INFORMATION for the daily meeting agenda.

ADDRESSES: The meeting will be held in Stephen H. Clark Conference Room in the Aquarium Building of the National Marine Fisheries Service, Northeast Fisheries Science Center (NEFSC), 166 Water Street, Woods Hole, MA 02543.

FOR FURTHER INFORMATION CONTACT: Jim Weinberg, 508-495-2352; email: james.weinberg@noaa.gov.

SUPPLEMENTARY INFORMATION: For further information, please visit the NEFSC website at http://www.nefsc.noaa.gov. For additional information about the AOP meeting and the stock assessment peer review, please visit the NMFS/NEFSC SAW web page at https://www.nefsc.noaa.gov/assessments/2019-assessments/.

Daily Meeting Agenda—Groundfish Operational Assessment Peer Review Meeting

(Subject to Change; All times are approximate and may be changed at the discretion of the Peer Review Chair).

Monday, September 9, 2019

Time | Activity | Lead
1:00 p.m.-1:15 p.m. | Welcome and Introductions | Jim Weinberg/Pat Sullivan, Chair.
1:15 p.m.-1:30 p.m. | Common Topics | Russ Brown.
1:30 p.m.-4:30 p.m. | Georges Bank Haddock Gulf of Maine Haddock | Liz Brooks. Charles Perretti.
4:30 p.m.-5:00 p.m. | Discussion/Review/Summary Public Comment | Review Panel. Public.
5:00 p.m. | Adjourn. |

Tuesday, September 10, 2019

Time | Activity | Lead
8:30 a.m.-8:45 a.m | Brief Overview and logistics | Jim Weinberg/Pat Sullivan, Chair.
8:45 a.m.-10:45 a.m | Gulf of Maine Cod | Charles Perretti.
10:45 a.m.-11:45 a.m | Break. Discussion/Review/Summary Public Comment | Review Panel. Public.
11:45 a.m.-12:45 p.m | Lunch. |
12:45 p.m.-3:30 p.m | Cape Cod/Gulf of Maine Yellowtail Flounder Southern New England/Mid-Atlantic Yellowtail Flounder | Larry Alade. Larry Alade.
3:30 p.m.-4:15 p.m | Break. Discussion/Review/Summary Public Comment | Review Panel. Public.
4:15 p.m | Adjourn. |

Wednesday, September 11, 2019

Time | Activity | Lead
8:30 a.m.-8:45 a.m | Brief Overview and logistics | Jim Weinberg/Pat Sullivan, Chair.
8:45 a.m.-11:30 a.m | Northern Windowpane Flounder Gulf of Maine Winter Flounder | Toni Chute. Lisa Hendrickson.
11:30 a.m.-12:15 p.m | Discussion/Review/Summary Public Comment | Review Panel. Public.
12:15 p.m.-1:15 p.m | Lunch. |
1:15 p.m.-4:00 p.m | American Plaice Pollock | Larry Alade. Brian Linton.
4:00 p.m.-4:30 p.m | Break. Discussion/Review/Summary Public Comment | Review Panel. Public.
4:30 p.m | Adjourn. |

Thursday, September 12, 2019

Time | Activity | Lead
8:30 a.m.-8:45 a.m | Brief Overview and logistics | Jim Weinberg/Pat Sullivan, Chair.
8:45 a.m.-9:45 a.m | White Hake | Kathy Sosebee.
9:45 a.m.-10:45 a.m | Discussion/Review/Summary Public Comment Break. | Review Panel. Public.
10:30 a.m.-12:00 p.m | Meeting Wrap Up and Discussion of Key Topics | Review Panel.
12:00 p.m.-1:00 p.m | Lunch. |
1:00 p.m.-5:00 p.m | Report Writing | Review Panel.
5:00 p.m | Adjourn. |

Friday, September 12, 2019

Time | Activity | Lead
8:30 a.m.-12:00 p.m | Report Writing | Review Panel.
12:00 p.m.-1:00 p.m | Lunch. |
1:00 p.m.-5:00 p.m | Report Writing | Review Panel.
5:00 p.m | Adjourn. |

The meeting is open to the public; however, during the `Report Writing/Species Summaries' session on Thursday, September 12th, and Friday, September 13th, the public should not engage in discussion with the peer review Panel.

Special Accommodations

This meeting is physically accessible to people with disabilities. Special requests should be directed to James Weinberg at the NEFSC, 508-495-2352, at least 5 days prior to the meeting date.

Dated: August 30, 2019.
Jennifer M. Wallace,
Acting Director, Office of Sustainable Fisheries, National Marine Fisheries Service.

[FR Doc. 2019-19166 Filed 8-30-19; 4:15 pm]

BILLING CODE 3510-22-P